SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: September 1-30, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (f) for the time period specified above.

Water Source Approval—Issued Under 18 CFR 806.22(f):

1. RENEWAL—Chesapeake Appalachia, L.L.C.; Pad ID: PA Woodlands Drilling Pad; ABR-201408006.R2; Fox Township, Sullivan County, Pa.; Consumptive Use of Up to 7.5000 mgd; Approval Date: September 12, 2024.

2. RENEWAL—Chesapeake Appalachia, L.L.C.; Pad ID: Phelps Unit #1H; ABR-20090813.R3; Lathrop Township, Susquehanna County, Pa.; Consumptive Use of Up to 7.5000 mgd; Approval Date: September 12, 2024.

3. RENEWAL—Coterra Energy Inc.; Pad ID: BrooksJ P1; ABR-201908007.R1; Springville Township, Susquehanna County, Pa.; Consumptive Use of Up to 5.0000 mgd; Approval Date: September 12, 2024.

4. RENEWAL—Coterra Energy Inc.; Pad ID: DiazM P2; ABR-201908001.R1; Harford Township, Susquehanna County, Pa.; Consumptive Use of Up to 5.0000 mgd; Approval Date: September 12, 2024.

5. RENEWAL—Range Resources—Appalachia, LLC; Pad ID: McWilliams 1H—2H; ABR-20090607.R3; Cogan House Township, Lycoming County, Pa.; Consumptive Use of Up to 4.0000 mgd; Approval Date: September 12, 2024.

6. RENEWAL—Repsol Oil & Gas USA, LLC; Pad ID: KNIGHTS (01 044) L; ABR-20090522.R3; Troy Township, Bradford County, Pa.; Consumptive Use of Up to 6.0000 mgd; Approval Date: September 12, 2024.

7. RENEWAL—Repsol Oil & Gas USA, LLC; Pad ID: SHEDDEN (01 026/027) D; ABR-20090507.R3; Troy Township, Bradford County, Pa.; Consumptive Use of Up to 6.0000 mgd; Approval Date: September 12, 2024.

8. RENEWAL—Chesapeake Appalachia, L.L.C.; Pad ID: Bonnie; ABR-20090904.R3; Albany Township, Bradford County, Pa.; Consumptive Use of Up to 7.5000 mgd; Approval Date: September 26, 2024.

9. RENEWAL—Chesapeake Appalachia, L.L.C.; Pad ID: Dacheux B Drilling Pad; ABR-201407013.R2; Cherry Township, Sullivan County, Pa.; Consumptive Use of Up to 7.5000 mgd; Approval Date: September 26, 2024.

10. RENEWAL—Chesapeake Appalachia, L.L.C.; Pad ID: Farr; ABR-20090907.R3; Towanda Township, Bradford County, Pa.; Consumptive Use of Up to 7.5000 mgd; Approval Date: September 26, 2024.

11. RENEWAL—Chesapeake Appalachia, L.L.C.; Pad ID: Reibson Drilling Pad; ABR-201407014.R2; Elkland Township, Sullivan County, Pa.; Consumptive Use of Up to 7.5000 mgd; Approval Date: September 26, 2024.

12. RENEWAL—Coterra Energy Inc.; Pad ID: ChudleighW P1; ABR-201908005.R1; Springville Township, Susquehanna County, Pa.; Consumptive Use of Up to 5.0000 mgd; Approval Date: September 26, 2024.

13. RENEWAL—Coterra Energy Inc.; Pad ID: PowersN P2; ABR-201908008.R1; Middletown Township, Susquehanna County, Pa.; Consumptive Use of Up to 5.0000 mgd; Approval Date: September 26, 2024.

14. RENEWAL—Diversified Production LLC; Pad ID: Hurd; ABR-20090802.R3; Ferguson Township, Clearfield County, Pa.; Consumptive Use of Up to 3.0000 mgd; Approval Date: September 26, 2024.

15. RENEWAL—Repsol Oil & Gas USA, LLC; Pad ID: THOMAS (01 038) FT; ABR-20090524.R3; Troy Township, Bradford County, Pa.; Consumptive Use of Up to 6.0000 mgd; Approval Date: September 26, 2024.

16. RENEWAL—SWN Production Company, LLC; Pad ID: PU-BB-Price-Pad; ABR-201908012.R1; Lenox Township, Susquehanna County, Pa.; Consumptive Use of Up to 4.9990 mgd; Approval Date: September 26, 2024.

17. RENEWAL—SWN Production Company, LLC; Pad ID: RU-72-FOLKVARD-PAD; ABR-201908011.R1; Jackson Township, Susquehanna County, Pa.; Consumptive Use of Up to 4.9990 mgd; Approval Date: September 26, 2024.

18. RENEWAL—Chesapeake Appalachia, L.L.C.; Pad ID: Hunsinger; ABR-20090905.R3; Rush Township, Susquehanna County, Pa.; Consumptive Use of Up to 7.5000 mgd; Approval Date: September 27, 2024.

19. RENEWAL—Chesapeake Appalachia, L.L.C.; Pad ID: Martin; ABR-20090906.R3; Granville Township, Bradford County, Pa.; Consumptive Use of Up to 7.5000 mgd; Approval Date: September 27, 2024.

20. RENEWAL—Chesapeake Appalachia, L.L.C.; Pad ID: Sharer; ABR-20090913.R3; Stevens Township, Bradford County, Pa.; Consumptive Use of Up to 7.5000 mgd; Approval Date: September 27, 2024.

Authority: Public Law 91-575, 84 Stat. 1509 et seq., 18 CFR parts 806 and 808.

Dated: October 9, 2024.
Jason E. Oyler,
General Counsel and Secretary to the Commission.

[FR Doc. 2024-23734 Filed 10-11-24; 8:45 am]

BILLING CODE 7040-01-P